DEPARTMENT OF HEALTH AND HUMAN SERVICES

Centers for Disease Control and Prevention

[60 Day-18-18AEJ; Docket No. CDC-2018-0048]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Applied Research to Address Emerging Public Health Priorities, a broad agency announcement for the competitive selection of research proposals.

DATES: CDC must receive written comments on or before July 30, 2018.

ADDRESSES: You may submit comments, identified by Docket No. CDC-2018-0048 by any of the following methods:

• Federal eRulemaking Portal: Regulations.gov. Follow the instructions for submitting comments.

• Mail: Jeffery M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffery M. Zirger, Information Collection Review Office, Centers for Disease Control and Prevention, 1600 Clifton Road NE, MS-D74, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Applied Research to Address Emerging Public Health Priorities—New ICR—National Center for Emerging and Zoonotic Infectious Diseases (NCEZID), Centers for Disease Control and Prevention (CDC).

Background and Brief Description

On March 26, 2018, CDC issued a Broad Agency Announcement (FY2018-OADS-01) available at https://www.fbo.gov/spg/HHS/CDCP/PGOA/FY2018-OADS-BAA/listing.html. There is potential for standardized information collection attached to a limited number of awarded projects. For those projects, a 30-day notice will be published in the Federal Register and information collection requests will be submitted to OMB for approval. This Federal Register notice is intended to broadly inform the public of CDC's intent to contract with researchers to carry out a variety of different research projects awarded through this announcement.

For this announcement, CDC has identified the following research areas of interest. Interested parties are invited to consider innovative approaches to support advanced research and development strategies in the following research areas of interest:

1. New Diagnostic, Sequencing, and Metagenomic Tools for AR Detection and Improved Antibiotic Use

2. International Transmission, Colonization, and Prevention of AR Pathogens

3. Domestic Transmission, Colonization, and Prevention of AR Pathogens and CDI

4. Develop Human Microbiome Disruption Indices Relevant to Antibiotic Resistance

5. Antibiotic Resistant Pathogens and Genes in Water Systems and the Environment and their Contribution to Human Infections

6. Improving Antibiotic Stewardship

7. Approaches to Prevention and Control of Parasitic Infections in the United States

8. Approaches to Prevention and Control of Parasitic Infections and Neglected Tropical Diseases Globally

9. Surveillance and Control of Arthropod Vectors of Human Pathogens

10. Modernization of the Surveillance Data Platform

Contracts that are awarded based on responses to this BAA are as a result of full and open competition and therefore in full compliance with the provisions of Public Law 98-369, “The Competition in Contracting Act of 1984.” CDC contracts with educational institutions, nonprofit organizations, state and local government, and private industry for research and development (R&D) in those areas covered in this BAA.

The public is invited to look at the BAA online for greater detail and more specific research areas falling under the ten topics listed above.

Authorizing legislation comes from Section 301 of the Public Health Service Act. Responses will be voluntary and it is not expected that there will be any cost to respondents other than the time to participate in information collection. The total estimated burden for all of the information collections is not expected to exceed 1,500 hours (100 hours of burden for a maximum of 15 potentially PRA-applicable contracts).

Estimated Annualized Burden Hours
Type of respondents | Form name | Number of respondents | Number of responses per respondent | Average burden per response (in hours) | Total burden (in hours)
Public | Information collection | 150 | 10 | 1 | 1,500
Total |  |  |  |  | 1,500

Jeffery M. Zirger,
Acting Chief, Information Collection Review Office, Office of Scientific Integrity, Office of the Associate Director for Science, Office of the Director, Centers for Disease Control and Prevention.

[FR Doc. 2018-11400 Filed 5-25-18; 8:45 am]

BILLING CODE 4163-18-P